DEPARTMENT OF COMMERCE

International Trade Administration

[A-570-002]

Chloropicrin From the People's Republic of China: Final Results of Sunset Review and Revocation of Order

AGENCY: Enforcement and Compliance, International Trade Administration, Department of Commerce.

SUMMARY: On August 4, 2020, the Department of Commerce (Commerce) initiated the fifth sunset review of the antidumping duty order on chloropicrin from the People's Republic of China (China). Because the domestic interested parties did not file a timely substantive response in this sunset review, Commerce is revoking this antidumping duty order.

DATES: Applicable September 22, 2020.

FOR FURTHER INFORMATION CONTACT: Abdul Alnoor, AD/CVD Operations, Office IV, Enforcement and Compliance, International Trade Administration, U.S. Department of Commerce, 1401 Constitution Avenue NW, Washington, DC 20230; telephone: (202) 482-4554.

SUPPLEMENTARY INFORMATION:

Background

On March 22, 1984, Commerce issued an antidumping duty order on chloropicrin from China.¹ On September 22, 2015, Commerce published a notice of continuation of the Order.² There has been one administrative review since issuance of the Order.³ Commerce conducted four previous sunset reviews of the Order. Commerce published the final results of those sunset reviews on March 9, 1999; ⁴ July 6, 2004; ⁵ November 6, 2009; ⁶ and August 7, 2015.⁷ On August 4, 2020, Commerce initiated the fifth sunset review of this Order.⁸

¹ See Antidumping Duty Order: Chloropicrin from the People's Republic of China, 49 FR 10691 (March 22, 1984) (Order).

² See Chloropicrin From the People's Republic of China: Continuation of Antidumping Duty Order, 80 FR 57149 (September 22, 2015) (2015 Continuation Notice).

³ See Chloropicrin from the People's Republic of China: Final Results of Administrative Review of Antidumping Duty Order, 50 FR 2844 (January 22, 1985).

⁴ See Final Results of Expedited Sunset Review: Chloropicrin from the People's Republic of China, 64 FR 11440 (March 9, 1999).

⁵ See Chloropicrin from the People's Republic of China; Final Results of the Expedited Sunset Review of Antidumping Duty Order, 69 FR 40601 (July 6, 2004).

⁶ See Chloropicrin From the People's Republic of China: Final Results of the Expedited Sunset Review of the Antidumping Duty Order, 74 FR 57450 (November 6, 2009).

⁷ See Chloropicrin from the People's Republic of China: Final Results of the Expedited Sunset Review of the Antidumping Duty Order, 80 FR 47467 (August 7, 2015).

⁸ See Initiation of Five-Year (Sunset) Reviews, 85 FR 47185 (August 4, 2020).

On August 18, 2020, within the applicable deadline, Commerce received notice of intent to participate ⁹ from Ashta Chemicals, Inc.; Niklor Chemical Co., Inc.; and Trinity Manufacturing, Inc., the domestic interested parties in this proceeding.¹⁰ However, the domestic interested parties failed to submit a substantive response to the notice of initiation by the applicable time limit of September 3, 2020, as required by 19 CFR 351.218(d)(3).¹¹ Pursuant to 19 CFR 351.218(e)(1)(i)(C)(2), on September 10, 2020, Commerce notified the International Trade Commission, in writing, that it intended to issue a final determination revoking this antidumping duty order.¹²

⁹ See Domestic Interested Parties' Letter, “Notice of Intent to Participate in Five-Year (“Sunset”) Review of Chloropicrin from China; Application Under Administrative Protective Order,” dated August 18, 2020.

¹⁰ See 19 CFR 351.218(d)(1)(i).

¹¹ On September 18, 2020, the domestic interested parties attempted to file a late substantive response. See Domestic Interested Parties' Letter, “Substantive Response on Behalf of Ashta Chemicals Inc, Niklor Chemical Company, and Trinity Manufacturing, Inc,” dated September 18, 2020. At the same time, the domestic interested parties also filed an untimely request for an extension to file the substantive response in this sunset review. See Letter from Kalik Lewin, “Request for Leave for late Filing: Substantive Response in Five-Year (“Sunset”) Review of Chloropicrin from China,” dated September 18, 2020. Commerce rejected the late submission of the substantive response. See Commerce Letters, “Five-Year (`Sunset') Review of Chloropicrin from China: Rejection of Request for Leave for Late Filing and Rejection of Domestic Interested Parties' Substantive Response,” dated September 28, 2020; and “Five-Year (`Sunset') Review of Chloropicrin from China: Response to Second Request to Extend the Deadline for Filing a Substantive Response,” dated November 2, 2020.

¹² See Commerce's Letter, “Sunset Review Initiated on August 4, 2020,” dated September 10, 2020.

Scope of the Order

The merchandise subject to the antidumping duty order is chloropicrin, also known as trichloronitromethane. A major use of the product is as a pre-plant soil fumigant (pesticide). Such merchandise is classifiable under Harmonized Tariff Schedule (HTS) subheading 2904.90.50.05.¹³ The HTS subheading is provided for convenience and customs purposes. The written description remains dispositive.

¹³ Since this scope was written, the HTS subheading has changed. Subject merchandise is currently classifiable under HTS subheading 2904.91.00 00.

Determination To Revoke

19 CFR 351.218(e)(1)(i)(C) states that if no domestic party has filed a complete substantive response to the notice of initiation under paragraph (d)(3) of that section, then Commerce will issue a final determination revoking the order or terminating the suspended investigation not later than 90 days after the date of publication in the Federal Register of the Notice of Initiation. In turn, paragraph (d)(3) establishes a time limit for substantive responses to a notice of initiation, which is 30 days after the date of publication in the Federal Register of the notice of initiation. In this case, the notice of initiation was published in the Federal Register on August 4, 2020, and therefore the applicable time limit for substantive responses was September 3, 2020. As noted above, Commerce did not receive a substantive response from any domestic interested party by September 3.

Because no domestic interested party timely filed an adequate substantive response in this sunset review, Commerce finds that no domestic interested party has responded to the notice of initiation of this sunset review under 751(c)(3)(A) of the Act. Therefore, consistent with the section 751(c)(3)(A) of the Act and 19 CFR 351.222(i)(1)(i), we are revoking the antidumping duty order on chloropicrin from China.¹⁴

¹⁴ See 19 CFR 351.218(e)(1)(i)(C)(1).

Effective Date of Revocation

The effective date of revocation is September 22, 2020, the fifth anniversary of the date of publication in the Federal Register of the most recent notice of continuation of this antidumping duty order.¹⁵

¹⁵ See 2015 Continuation Notice.

Pursuant to section 751(c)(3)(A) of the Act, Commerce intends to issue instructions to U.S. Customs and Border Protection 15 days after the publication of this notice to terminate the suspension of liquidation of the merchandise subject to this order entered, or withdrawn from warehouse, on or after September 22, 2020. Entries of subject merchandise prior to the effective date of revocation will continue to be subject to suspension of liquidation and antidumping duty deposit requirements. Commerce will complete any pending administrative reviews of this order and will conduct administrative reviews of subject merchandise entered prior to the effective date of revocation in response to appropriately filed requests for review.

This notice of revocation is published in accordance with sections 751(c) and 777(i)(1) of the Act and 19 CFR 351.218(e)(1)(i)(C)(3) and 19 CFR 351.222(i)(1)(i).

Dated: November 2, 2020.
Jeffrey I. Kessler,
Assistant Secretary for Enforcement and Compliance.

[FR Doc. 2020-24828 Filed 11-6-20; 8:45 am]

BILLING CODE 3510-DS-P